DEPARTMENT OF AGRICULTURE

Agricultural Marketing Service

[Doc. No. AMS-NOP-24-0023]

Meeting of the National Organic Standards Board

AGENCY: Agricultural Marketing Service, USDA.

ACTION: Notice of public meeting.

SUMMARY: In accordance with the Federal Advisory Committee Act, as amended, the Agricultural Marketing Service (AMS), U.S. Department of Agriculture (USDA), is announcing a meeting of the National Organic Standards Board (NOSB). The NOSB assists USDA in the development of standards for substances to be used in organic production and advises the Secretary of Agriculture on any other aspects of the implementation of the Organic Foods Production Act (OFPA).

DATES: An in-person meeting will be held October 22-24, 2024, from 8:30 a.m. to approximately 6 p.m. Pacific time (PT) each day, and we plan to include a virtual broadcast.

Oral Comments: The NOSB will hear oral public comments via webinars on Tuesday, October 15, 2024, and Thursday, October 17, 2024, from 12 p.m. to approximately 5 p.m. eastern time (ET). The USDA National Organic Program (NOP) will consult with the Board on whether time will be allotted for in-person oral public comments in Milwaukee, in addition to the pre-meeting oral comment webinars and written comments. If allowed, NOP will post details on the AMS website when registration opens.

Written Comments: The deadline to submit written comments and/or sign up for oral comment at either the webinar or in-person meeting is 11:59 p.m. ET, September 30, 2024.

ADDRESSES: The webinars are virtual and can be accessed via the internet and/or phone. Access information will be available on the AMS website prior to the webinars. The in-person meeting will take place at the Hilton Portland Downtown, 921 SW Sixth Avenue, Portland, Oregon, United States 97204, and will be broadcast virtually. Detailed information pertaining to the webinars and in-person meeting, including virtual viewing options, can be found at https://www.ams.usda.gov/event/national-organic-standards-board-nosb-meeting-portland-or.

FOR FURTHER INFORMATION CONTACT: Ms. Michelle Arsenault, Advisory Committee Specialist, National Organic Standards Board, USDA-AMS-NOP, 1400 Independence Avenue SW, Room 2642-S, STOP 0268, Washington, DC 20250-0268; Phone: (202) 997-0115; Email: nosb@usda.gov.

SUPPLEMENTARY INFORMATION: In accordance with the Federal Advisory Committee Act, 5 U.S.C. 10, and 7 U.S.C. 6518(e), as amended, AMS is announcing a meeting of the NOSB. The NOSB makes recommendations to USDA about whether substances should be allowed or prohibited in organic production and/or handling, assists in the development of standards for organic production, and advises the Secretary on other aspects of the implementation of the Organic Foods Production Act, 7 U.S.C. 6501 et seq. NOSB is holding a public meeting to discuss and vote on proposed recommendations to USDA, to obtain updates from the NOP on issues pertaining to organic agriculture, and to receive comments from the organic community. The meeting is open to the public. Registration is only required to sign up for oral comments. Photography is allowed, as long as it is not disruptive. All meeting documents and instructions for participating will be available on the AMS website at https://www.ams.usda.gov/event/national-organic-standards-board-nosb-meeting-portland-or. Please check the website periodically for updates. Meeting topics will encompass a wide range of issues, including substances petitioned for addition to, or removal from, the National List of Allowed and Prohibited Substances (National List), substances on the National List that are under sunset review, and guidance on organic policies.

Public Comments: Comments should address specific topics noted on the meeting agenda.

Written Comments: Written public comments will be accepted until 11:59 p.m. ET, September 30, 2024, via http://www.regulations.gov (Docket No. AMS-NOP-24-0023). Comments submitted after this date will be added to the public comment docket, but Board members may not have adequate time to consider those comments prior to making recommendations. NOP strongly prefers comments be submitted electronically. However, written comments may also be submitted (i.e., postmarked) via mail, by or before the deadline, to the person listed under FOR FURTHER INFORMATION CONTACT.

Oral Comments: The NOSB will hear oral public comments via webinars on Tuesday, October 15, 2024, and Thursday, October 17, 2024, from 12 p.m. to approximately 5 p.m. eastern time (ET), and during the first day of the in-person meeting in Portland. Each commenter wishing to address the Board must pre-register by 11:59 p.m. ET on September 30, 2024, and can register for only one speaking slot (either during the webinars, or in Portland). Instructions for registering and providing oral comments can be found at https://www.ams.usda.gov/event/national-organic-standards-board-nosb-meeting-portland-or.

Meeting Accommodations: The meeting hotel is compliant with the Americans with Disabilities Act, and USDA provides reasonable accommodation to individuals with disabilities where appropriate. If you are a person requiring reasonable accommodation, please make requests in advance for sign language interpretation, assistive listening devices, or other reasonable accommodation to the person listed under FOR FURTHER INFORMATION CONTACT. Determinations for reasonable accommodation will be made on a case-by-case basis.

Equal opportunity practices, in accordance with USDA policies, will be followed in all membership appointments to the Board. To ensure that the recommendations of the Committee have taken into account the needs of the diverse groups served by the Department, membership shall include, to the extent practicable, individuals with demonstrated ability to represent the many communities, identities, races, ethnicities, backgrounds, abilities, cultures, and beliefs of the American people, including underserved communities.

The USDA prohibits discrimination in all its programs and activities based on race, color, national origin, religion, sex, gender identity (including gender expression), sexual orientation, disability, age, marital status, family/parental status, income derived from a public assistance program, political beliefs, or reprisal or retaliation for prior civil rights activity, in any program or activity conducted or funded by USDA (not all bases apply to all programs).

Dated: August 27, 2024.
Cikena Reid,
USDA Committee Management Officer.

[FR Doc. 2024-19537 Filed 8-29-24; 8:45 am]

BILLING CODE 3410-02-P